COMMISSION ON CIVIL RIGHTS

Notice of Public Meeting of the West Virginia Advisory Committee to the U.S. Commission on Civil Rights

AGENCY: U.S. Commission on Civil Rights.

ACTION: Notice of public meetings.

SUMMARY: Notice is hereby given, pursuant to the provisions of the rules and regulations of the U.S. Commission on Civil Rights (Commission) and the Federal Advisory Committee Act, that the West Virginia Advisory Committee (Committee) to the U.S. Commission on Civil Rights will hold meetings via Zoom. The purpose of these meetings is to discuss, plan, and vote, as needed, on matters related to the Committee's project on the civil rights impact of WV public school disciplinary policies, practices and procedures on students of color, students with disabilities and LGBTA+ students.

DATES:

• Thursday, October 12, 2023, from 3:00 p.m.-4:00 p.m. Eastern Time

• Thursday, October 19, 2023, from 3:00 p.m.-4:00 p.m. Eastern Time

• Thursday, October 26, 2023, from 3:00 p.m.-4:00 p.m. Eastern Time

• Thusday, November, 2, 2023, from 3:00 p.m.-4:00 p.m. Eastern Time

• Thursday, November 9, 2023, from 3:00 p.m.-4:00 p.m. Eastern Time

• Thursday, November 16, 2023, from 3:00 p.m.-4:00 p.m. Eastern Time

ADDRESSES: These meetings will be held via Zoom.

FOR FURTHER INFORMATION CONTACT: Ivy Davis, Director of Eastern Regional Office and Designated Federal Officer, at ero@usccr.gov or 1-202-539-8468.

SUPPLEMENTARY INFORMATION:

Meeting Link (Audio/Visual): https://www.zoomgov.com/j/1603603569.

Join by Phone (Audio Only): 1-833-435-1820 USA Toll-Free; Meeting ID: 160 360 3569#.

These Committee meetings are available to the public through the meeting link above. Any interested member of the public may attend these meetings. Immediately after each meeting concludes the Committee Chair will recognize members of the public to make a brief statement to the Committee on the panel topic—not to exceed five minutes—as time allows. Pursuant to the Federal Advisory Committee Act, public minutes of this meeting will include a list of persons who attended the meeting. If joining via phone, callers can expect to incur regular charges for calls initiated over wireless lines, according to their wireless plan. The Commission will not refund any incurred charges. Callers will incur no charge for calls they initiate over land-line connections to the toll-free telephone number. Closed captioning is available by selecting “CC” in the meeting platform. To request additional accommodations, please email svillanueva@usccr.gov at least 10 business days prior to the meeting.

Members of the public are entitled to submit written comments; the comments must be emailed within 30 days following the scheduled meeting. Written comments may be emailed to Ivy Davis at ero@usccr.gov. Persons who desire additional information may contact the Regional Programs Coordination Unit at 1-202-809-9618.

Records generated from this meeting may be inspected and reproduced at the Regional Programs Coordination Unit Office, as they become available, both before and after the meeting. Records of the meetings will be available via www.facadatabase.gov under the Commission on Civil Rights, West Virginia Advisory Committee link. Persons interested in the work of this Committee are directed to the Commission's website, www.usccr.gov, or may contact the Regional Programs Coordination Unit at svillanueva@uscccr.gov.

Agenda

I. Meeting Announcement & Roll Call

II. Welcome

III. Project Planning

IV. Other Business

V. Next Meeting

VI. Public Comment

VII. Adjourn

Exceptional Circumstance: Pursuant to to 41 CFR 102-3.150, the notice for this meeting is given less than 15 days prior to the meeting due to the Committee's report deadline.

Dated: October 6, 2023.
David Mussatt,
Supervisory Chief, Regional Programs Unit.

[FR Doc. 2023-22616 Filed 10-12-23; 8:45 am]

BILLING CODE P